DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed project or to obtain a copy of the information collection plans, call the SAMHSA Reports Clearance Officer at (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: State Opioid Response (SOR)/Tribal Opioid Response (TOR) Program Instrument (OMB No. 0930-0384)—Revision

SAMHSA is requesting approval to modify its existing CSAT SOR/TOR Program Instrument by (1) collapsing the original three questions into two questions for clarity and (2) adding ten questions, in order to collect information on Congressionally mandated and programmatic activities and comply with reporting requirements. The program-level information is collected quarterly and entered and stored in SAMHSA's Performance Accountability and Reporting System, which is a real-time, performance management system that captures information on the substance abuse prevention and treatment and mental health services delivered in the United States. Continued approval of this information collection will allow SAMHSA to continue to meet Government Performance and Results Modernization Act (GPRA) of 2010 reporting requirements that quantify the effects and accomplishments of its discretionary grant programs.

The SOR/TOR programs were first authorized under Title II Division H of the Consolidated Appropriations Act, 2018, Public Law 115-141. SOR/TOR programs aim to address the opioid crisis by increasing access to medication-assisted treatment using the three FDA-approved medications for the treatment of Opioid Use Disorder (OUD), reducing unmet treatment need, and reducing opioid overdose-related deaths through the provision of prevention, treatment and recovery activities for OUD (including illicit use of prescription opioids, heroin, and fentanyl and fentanyl analogs).

SAMHSA is proposing to revise the SOR/TOR Program Instrument data collection instrument (OMB No. 0930-0384), in order to collect information on Congressionally mandated and programmatic activities and comply with reporting requirements.

SAMHSA developed the SOR/TOR Program Instrument to collect minimum data on naloxone purchase and distribution, but the SOR/TOR programs are unique in that they have prevention requirements. SOR/TOR grantees are required to engage in the following prevention activities: (1) Implement prevention and education services, including training of peers and first responders on recognition of opioid overdose and appropriate use of the opioid overdose antidote naloxone, (2) develop evidence-based community prevention efforts, including strategic messaging on the consequences of opioid misuse, and (3) purchase and distribute naloxone and train on its use. The revised tool will allow SAMHSA to collect data on the required education and prevention activities, and better assess grantee performance on these activities.

Based on a recent United States Government Accountability Office (GAO) Report to Congress GAO 21-96, “Drug Misuse: Agencies Have Not Fully Identified How Grants That Can Support Drug Prevention Education Programs Contribute to National Goals,” ¹ GAO found that SAMHSA's performance measures for the SOR program partially reflect its core program activities, and that although SAMHSA reported three performance measures for the SOR program, all three measures focused on treatment or recovery services only. GAO recommended, and SAMHSA committed to, implementing the following: “The Secretary of Health and Human Services should determine how the State Opioid Response program contributes to the prevention goals of the National Drug Control Strategy and develop performance measures that relate to achieving those goals including the prevention education goal.” Collection of the data in the revised tool will enable SAMHSA to implement the recommendations of GAO.

¹ United States Government Accountability Office. (2020, November). Drug Misuse: Agencies Have Not Fully Identified How Grants That Can Support Drug Prevention Education Programs Contribute to National Goals. https://www.gao.gov/assets/gao-21-96.pdf.

Finally, the revisions will assist SAMHSA in providing comprehensive data on the full range of required activities to inform Congressionally mandated reports for the SOR program.

In order to address these issues, SAMHSA is proposing to (1) collapse the three questions into two questions for clarity and (2) add ten questions, in order to collect information on Congressionally mandated and programmatic activities and comply with reporting requirements. A summary of the proposed changes includes:

• The revised question will provide CSAT with clarification on the purchase and distribution of naloxone kits.

• The ten additional questions will provide data on the following:

○ Reported overdose reversals;

○ Purchase and distribution of fentanyl test strips;

○ Training of first responders and key community sectors on recognizing an opioid overdose and the appropriate use of naloxone overdose reversal kits;

○ Educating individuals, including school-aged children, on the consequences of opioid and/or stimulant misuse using strategic messaging and prevention activities;

○ Training individuals to provide school-based prevention and education activities to school-aged children; and

○ Providing targeted prevention outreach activities to underserved and/or diverse populations.

Table 1—Estimate of Annualized Hour Burden for SOR/TOR Grantees
SAMHSA data collection | Number of respondents | Responses per respondent | Total number of responses | Burden hours per response | Total burden hours | Hourly wage ² | Total wage cost
Grantee-Level Instrument | 159 | 4 | 636 | .30 | 190.80 | $24.78 | $4,728.02
CSAT Total | 159 | 4 | 636 | .30 | 190.80 | 24.78 | 4,728.02

Send comments to Carlos Graham, SAMHSA Reports Clearance Officer, 5600 Fishers Lane, Room 15E57-A, Rockville, Maryland 20857, OR email a copy to Carlos.Graham@samhsa.hhs.gov. Written comments should be received by October 1, 2021.

² The hourly wage estimate is $24.78 based on the Occupational Employment and Wages, Mean Hourly Wage Rate for 21-1018 Substance Abuse, Behavioral Disorder, and Mental Health Counselors = $24.78/hr. as of May 2020 (https://www.bls.gov/oes/current/oes211018.htm Accessed on May 4, 2021.)

Carlos Graham,
Social Science Analyst.

[FR Doc. 2021-16407 Filed 7-30-21; 8:45 am]

BILLING CODE 4162-20-P